INTERNATIONAL TRADE COMMISSION

[Investigation No. 731-TA-1770 (Preliminary)]

Fresh Winter Strawberries From Mexico; Revised Schedule for the Subject Investigation

AGENCY: United States International Trade Commission.

ACTION: Notice.

DATES: January 23, 2026.

FOR FURTHER INFORMATION CONTACT: Caitlyn Costello (202-205-2610), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On December 31, 2025, the Commission established a schedule for the conduct of the preliminary phase of the subject investigation (91 FR 380, January 6, 2026). On January 20, 2026, the Department of Commerce (“Commerce”) extended the deadline for its initiation determination to February 9, 2026 (91 FR 2910, January 23, 2026). The Commission, therefore, is revising its schedule to conform with Commerce's new schedule as follows: the deadline for filing postconference briefs and for written statements from any person who has not entered an appearance as a party is January 30, 2026.

The Commission must reach preliminary determinations within 25 days after the date on which the Commission receives notice from Commerce of initiation of the investigation, and the Commission's views must be transmitted to Commerce within five business days thereafter.

For further information concerning this proceeding, see the Commission's notice cited above and the Commission's Rules of Practice and Procedure, part 201, subparts A and B (19 CFR part 201), and part 207, subparts A and B (19 CFR part 207).

Authority: This investigation is being conducted under authority of title VII of the Tariff Act of 1930; this notice is published pursuant to § 207.12 of the Commission's rules.

By order of the Commission.
Issued: January 27, 2026.
Lisa Barton,
Secretary to the Commission.

[FR Doc. 2026-01812 Filed 1-29-26; 8:45 am]

BILLING CODE 7020-02-P